DEPARTMENT OF DEFENSE

Defense Acquisition Regulations System

Information Collection Requirement; Defense Federal Acquisition Regulation Supplement (DFARS) Part 211, Describing Agency Needs

AGENCY: Defense Acquisition Regulations System, Department of Defense (DoD).

ACTION: Notice and request for comments regarding a proposed extension of an approved information collection requirement.

SUMMARY: In compliance with Section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection for use through January 31, 2014. DoD proposes that OMB extend its approval for use for three additional years beyond the current expiration date.

DATES: DoD will consider all comments received by January 14, 2014.

ADDRESSES: You may submit comments, identified by OMB Control Number 0704-0398, using any of the following methods:

Federal eRulemaking Portal: http://www.regulations.gov. Follow the instructions for submitting comments.

Email: dfars@osd.mil. Include OMB Control Number 0704-0398 in the subject line of the message.

Fax: 571-372-6094.

Mail: Defense Acquisition Regulations System, Attn: Mr. Dustin Pitsch, OUSD (AT&L) DPAP (DARS), 3060 Defense Pentagon, Room 3B855, Washington, DC 20301-3060.

Comments received generally will be posted without change to http://www.regulations.gov, including any personal information provided.

FOR FURTHER INFORMATION CONTACT: Mr. Dustin Pitsch,571-372-6090. The information collection requirements addressed in this notice are available on the World Wide Web at: http://www.acq.osd.mil/dpap/dars/dfarspgi/current/index.html. Paper copies are available from Mr. Dustin Pitsch, OUSD (AT&L) DPAP (DARS), 3060 Defense Pentagon, Room 3B855, Washington, DC 20301-3060.

SUPPLEMENTARY INFORMATION: Title, Associated Form, and OMB Number: Defense Federal Acquisition Regulation Supplement (DFARS, Part 211, Describing Agency Needs, and the associated clauses at DFARS 252.211-7004, Alternate Preservation, Packaging, and Packing and 252.211-7005, Substitutions for Military or Federal Specifications and Standards; OMB Control Number 0704-0398.

Needs and Uses: This information collection permits offers to—

• Propose alternatives to military preservation, packaging, or packing specifications. DoD uses the information to evaluate and award contracts using commercial or industrial preservation, packaging, or packing if the offeror chooses to propose such alternates.

• Purpose Single Process Initiative (SPI) processes as alternatives to military or Federal specifications and standards cited in DoD solicitations for previously developed items. DoD uses the information to verify Government acceptance of an SPI process as a valid replacement for a military or Federal specification or standard.

Affected Public: Businesses or other for-profit and not-for profit institutions.

Number of Respondents: 385.

Responses per Respondent: Approximately 1.4.

Annual Responses: 573.

Average Burden per Response: Approximately 2 hours.

Annual Burden Hours: 1,136.

Frequency: On Occasion.

Summary of Information Collection

DFARS Part 211 and the clause at DFARS 252.211-7004 and 252.11-7005 are required for DoD contractors and subcontractors to propose—

• Alternatives to military preservation, packaging, or packing specifications; and/or

• Single Process Initiative (SPI) processes in lieu of military or Federal specifications.

The provision at DFARS 252.211-7004, Alternate Preservation, Packaging, and Packing, is used in solicitations that include military preservation, packaging, or packing specifications when it may be feasible for DoD to evaluate and award using commercial or industrial preservation, packaging, or packing. If the offeror chooses to propose alternate preservation, packaging, or packing, the provision requires the offeror to submit information sufficient to allow evaluation of the proposed commercial or industrial preservation, packaging, or packing.

The clause at DFARS 252.211-7005, Substitutions for Military or Federal Specifications and Standards, is used in solicitations and contracts for previously developed items. The clause encourages offerors to propose management or manufacturing processes, if previously accepted by DoD under the Single Process Imitative (SPI) program, as alternatives to military or Federal specification and standards cited in the solicitation.

Manuel Quinones,
Editor, Defense Acquisition Regulations System.

[FR Doc. 2013-27302 Filed 11-14-13; 8:45 am]

BILLING CODE 5001-06-P